DEPARTMENT OF ENERGY

Biomass Research and Development Technical Advisory Committee

AGENCY: Department of Energy, Office of Energy Efficiency and Renewable Energy.

ACTION: Notice of open meeting.

SUMMARY: This notice announces an open meeting of the Biomass Research and Development Technical Advisory Committee under the Biomass Research and Development Act of 2000. The Federal Advisory Committee Act (Pub. L. 92-463, 86 Stat. 770) requires that agencies publish these notices in the Federal Register to allow for public participation. This notice announces the meeting of the Biomass Research and Development Technical Advisory Committee.

DATES AND TIMES: February 25, 2009 at 1 p.m. to 2 p.m.

February 26, 2009 at 8:30 a.m. to 3:15 p.m.

ADDRESSES: Homewood Suites—Riverwalk—Alamo Room, 432 W. Market, San Antonio, TX 78205.

FOR FURTHER INFORMATION CONTACT: Valri Lightner, Designated Federal Officer for the Committee, Office of Energy Efficiency and Renewable Energy, U.S. Department of Energy, 1000 Independence Avenue, SW., Washington, DC 20585; (202) 586-0937 or Carolyn Clark at (202) 586-8077; E-mail: cclark@bcs-hq.com.

SUPPLEMENTARY INFORMATION: Purpose of Meeting: To provide advice and guidance that promotes research and development leading to the production of biobased fuels and biobased products.

Tentative Agenda: Agenda will include the following:

• Update on USDA Biofuels Activities

• Update on DOE Biofuels Activities

• Presentation from the European Bioethanol Fuel Association on the European Perspective of the Biofuels Industry

• Subcommittee Report-Outs

• Presentation on Cellulosic Ethanol Commercialization from Range Fuels

• Presentation on Enzymatic Breakthroughs from Genencor

Public Participation: In keeping with procedures, members of the public are welcome to observe the business of the Biomass Research and Development Technical Advisory Committee. To attend the meeting and/or to make oral statements regarding any of the items on the agenda, you should contact Valri Lightner at 202-586-0937; E-mail: valri.lightner@ee.doe.gov or Carolyn Clark at (202) 586-8077; E-mail: cclark@bcs-hq.com. You must make your request for an oral statement at least 5 business days before the meeting. Members of the public will be heard in the order in which they sign up at the beginning of the meeting. Reasonable provision will be made to include the scheduled oral statements on the agenda. The Chair of the Committee will make every effort to hear the views of all interested parties. If you would like to file a written statement with the Committee, you may do so either before or after the meeting. The Chair will conduct the meeting to facilitate the orderly conduct of business.

Minutes: The minutes of the meeting will be available for public review and copying at http://www.brdisolutions.com/publications/default.aspx#meetings.

Issued at Washington, DC on February 3, 2009.
Rachel Samuel,
Deputy Committee Management Officer.

[FR Doc. E9-2549 Filed 2-5-09; 8:45 am]

BILLING CODE 6450-01-P